DEPARTMENT OF ENERGY

Federal Energy Regulatory Commission

[Project No. 2621-004]

Milliken and Company, Inc.; Notice of Intent To File License Application, Filing of Pre-Application Document, and Approving Use of the Traditional Licensing Process

March 29, 2007.

a. Project No.: 2621-004.

b. Date Filed: January 30, 2007.

c. Submitted by: Milliken and Company, Inc.

d. Name of Project: Pacolet River Hydroelectric Project.

e. Location: The project is located on the Pacolet River, in Spartanburg County, South Carolina.

f. Filed Pursuant to: 18 CFR 5.5 and 5.6 of the Commission's regulations.

g. Potential Applicant Contact: Mr. Bryan Stone, Business Manager, Lockhart Power Company, P.O. Box 10, 420 River Street, Lockhart, South Carolina 29364, (800) 368-1289.

h. FERC Contact: Lee Emery at (202) 502-8379; or e-mail at lee.emery@ferc.gov.

i. Pursuant to 18 CFR 5.3(a)(2), Milliken and Company, Inc. filed its Notice of Intent to File License Application using the Traditional Licensing Process on January 30, 2007. With this notice, the Director of the Office of Energy Projects approves Milliken and Company, Inc.'s request to use the Traditional Licensing Process.

j. With this notice, we are initiating informal consultation with: (a) The U.S. Fish and Wildlife Service and/or NOAA Fisheries under section 7 of the Endangered Species Act and the joint agency consultation at 50 CFR, part 402; (b) NOAA Fisheries under section 305(b) of the Magnuson-Stevens Fishery Conservation and Management Act and implementing regulations at 50 CFR 600.920; and (c) the South Carolina Historic Preservation Officer, as required by Section 106, National Historic Preservation Act, and the implementing regulations of the Advisory Council on Historic Preservation at 36 CFR 800.2.

k. With this notice, we are designating Milliken and Company, Inc. as the Commission's non-federal representative for carrying out informal consultation, pursuant to Section 7 of the Endangered Species Act, Section 305 of the Magnuson-Stevens Fishery Conservation and Management Act, and Section 106 of the National Historic Preservation Act.

l. Milliken and Company, Inc. filed a Pre-Application Document (PAD) with the Commission, pursuant to 18 CFR 5.6 of the Commission's regulations.

m. The licensee states its unequivocal intent to submit an application for a new license for Project No. 2197. Pursuant to 18 CFR 16.8, 16.9, and 16.10 each application for a new license and any competing license applications must be filed with the Commission at least 24 months prior to the expiration of the existing license. All applications for license for this project must be filed by January 31, 2010.

n. A copy of the PAD is available for review at the Commission in the Public Reference Room or may be viewed on the Commission's Web site (http://www.ferc.gov), using the “elibrary” link. Enter the docket number, excluding the last three digits in the docket number field to access the document. For assistance, contact FERC Online Support at FERCONlineSupport@ferc.gov or toll free at 1-866-208-3676, or for TTY, at (202) 502-8659. A copy is also available for inspection and reproduction at the address in paragraph g.

Register online at http://ferc.gov/esubscribenow.htm to be notified via e-mail of new filing and issuances related to this or other pending projects. For assistance, contact FERC OnLine Support.

Philis J. Posey,
Acting Secretary.

[FR Doc. E7-6208 Filed 4-3-07; 8:45 am]

BILLING CODE 6717-01-P